DEPARTMENT OF AGRICULTURE

Animal and Plant Health Inspection Service

[Docket No. APHIS-2011-0032]

RIN 0579-AB35

Notice of Request for Reinstatement of an Information Collection; Chronic Wasting Disease Herd Certification Program

AGENCY: Animal and Plant Health Inspection Service, USDA.

ACTION: Reinstatement of an information collection; comment request.

SUMMARY: In accordance with the Paperwork Reduction Act of 1995, this notice announces the Animal and Plant Health Inspection Service's intention to request a reinstatement of an information collection to help eliminate chronic wasting disease from farmed or captive cervid herds in the United States.

DATES: We will consider all comments that we receive on or before March 26, 2012.

ADDRESSES: You may submit comments by either of the following methods:

• Federal eRulemaking Portal: Go to http://www.regulations.gov/#!documentDetail;D=APHIS-2011-0032-0001.

• Postal Mail/Commercial Delivery: Send your comment to Docket No. APHIS-2011-0032, Regulatory Analysis and Development, PPD, APHIS, Station 3A-03.8, 4700 River Road Unit 118, Riverdale, MD 20737-1238.

Supporting documents and any comments we receive on this docket may be viewed at http://www.regulations.gov/#!docketDetail;D=APHIS-2011-0032 or in our reading room, which is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: For information on chronic wasting disease in the United States, contact Dr. Patrice N. Klein, Senior Staff Veterinarian, Ruminant Health Programs, NCAHP, VS, APHIS, 4700 Road Unit 43, Riverdale, MD 20737; (301) 734-0738. For copies of more detailed information on the information collection, contact Mrs. Celeste Sickles, APHIS' Information Collection Coordinator, at (301) 851-2908.

SUPPLEMENTARY INFORMATION: Title: Chronic Wasting Disease Herd Certification Program.

OMB Number: 0579-0237.

Type of Request: Reinstatement of an information collection.

Abstract: Under the Animal Health Protection Act (7 U.S.C. 8301 et seq.), the Animal and Plant Health Inspection Service (APHIS) of the United States Department of Agriculture (USDA) is authorized, among other things, to protect the health of our Nation's livestock and poultry populations by preventing the introduction and interstate spread of serious diseases and pests of livestock and for eradicating such diseases from the United States when feasible.

Chronic wasting disease (CWD) is a transmissible spongiform encephalopathy of cervids, which include elk, deer, and moose, typified by chronic weight loss leading to death. The presence of CWD in cervids causes significant economic and market losses to U.S. producers. In an effort to accelerate the control and limit the spread of this disease, APHIS initiated rulemaking to create a cooperative, voluntary Federal-State-private sector CWD Herd Certification Program designed to actively identify farmed or captive herds infected with CWD and provide for the management of these herds to prevent further disease spread.

On July 21, 2006, APHIS published a final rule in the Federal Register (71 FR 41682-41707, Docket No. 00-108-1-3) establishing regulations in 9 CFR part 55 for a Chronic Wasting Disease Herd Certification Program to help eliminate CWD from farmed or captive cervid herds in the United States and in 9 CFR part 81 for interstate movement requirements to prevent CWD spread.

After publication of the CWD 2006 final rule, and before its effective date of October 19, 2006, APHIS received three petitions requesting consideration of several requirements of the rule. On September 8, 2006, we published a document in the Federal Register (71 FR 52983, Docket No. 00-108-4) that delayed the effective date of the final rule while APHIS considered those petitions. On November 3, 2006, we published another document in the Federal Register (71 FR 64650-64651, Docket No. 00-108-5) that described the nature of the petitions and made the petitions available for public review and comment, with a comment period closing on December 4, 2006. We subsequently extended that comment period until January 3, 2007, in a Federal Register document published on November 21, 2006 (71 FR 67313, Docket No. 001086).

As part of the 2006 final rule, the Office of Management and Budget (OMB) approved information collection activities associated with the voluntary CWD program requirements (OMB number 0579-0237). Because the final rule never went into effect, APHIS did not collect information related to the voluntary CWD program, and OMB's approval of the information collection was discontinued in April 2009.

After reviewing the merits of the petitions and public comments received in response to them, APHIS proposed changes to the 2006 final rule on March 31, 2009 (74 FR 14495-14506, Docket No. 00-108-7), with a comment period closing June 1, 2009. APHIS is in the process of developing rulemaking that would, if adopted, implement a voluntary CWD herd certification program and any approved information collection activities for the program.

Further, reinstatement of the information collection for a CWD program would involve a memorandum of understanding between APHIS and participating States; requests by businesses (VS forms 11-1/11-1A) and States to participate in the program; wild cervid identification for interstate movement; farmed cervid identification; reporting of cervid escapes, disappearances, and deaths; recordkeeping (herd records); certificates and/or animal identification documents to move cervids interstate; a letter to appeal suspension; a herd plan; and a laboratory submission form.

We are requesting OMB to approve for 3 years the reinstatement of information collection activities for the voluntary CWD program, if implemented, to help eliminate CWD from farmed or captive cervid herds in the United States.

The purpose of this notice is to solicit comments from the public (as well as agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 3.4897877 hours per response.

Respondents: State animal health officials; attending veterinarians; and owners/producers of elk, deer, and moose herds.

Estimated annual number of respondents: 2,390.

Estimated annual number of responses per respondent: 18.887866.

Estimated annual number of response hours: 45,142.

Estimated total annual burden on respondents: 157,536 hours. (Due to averaging, the total annual burden hours may not equal the product of the annual number of responses multiplied by the reporting burden per response.)

All responses to this notice will be summarized and included in the request for OMB approval. All comments will also become a matter of public record.

Done in Washington, DC, this 18th day of January 2012.
Kevin Shea,
Acting Administrator, Animal and Plant Health Inspection Service.

[FR Doc. 2012-1310 Filed 1-23-12; 8:45 am]

BILLING CODE 3410-34-P